GENERAL SERVICES ADMINISTRATION

41 CFR Chapters 101, 102, 105, 300, 301, 302, 303, and 304

48 CFR Chapter 5

Unified Agenda of Federal Regulatory and Deregulatory Actions

AGENCY: General Services Administration (GSA).

ACTION: Semiannual Regulatory Agenda.

SUMMARY: This agenda announces the proposed regulatory actions that GSA plans for the next 12 months and those that were completed since the fall 2022 edition. This agenda was developed under the guidelines of Executive Orders 12866 “Regulatory Planning and Review,” and 13563 “Improving Regulation and Regulatory Review.” GSA's purpose in publishing this agenda is to allow interested persons an opportunity to participate in the rulemaking process. GSA also invites interested persons to recommend existing significant regulations for review to determine whether they should be modified or eliminated. The public may provide comments on rules via http://www.regulations.gov.

The Unified Agenda, including previous versions, are available at www.reginfo.gov. Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is available in the Unified Agenda. In addition, for fall editions of the Agenda, the entire Regulatory Plan will continue to be printed in the Federal Register, as in past years, including GSA's regulatory plan.

FOR FURTHER INFORMATION CONTACT: Lois Mandell, Division Director, Regulatory Secretariat Division, 1800 F Street NW, 7th Floor, Washington, DC 20405-0001, 202-501-2735 or by email at lois.mandell@gsa.gov.

Dated: March 16, 2023.
Krystal J. Brumfield,
Associate Administrator, Office of Government-wide Policy.

General Services Administration—Proposed Rule Stage
Sequence No. | Title | Regulation Identifier No.
186 | General Services Administration Acquisition Regulation (GSAR); GSAR Case 2020-G510, Federal Supply Schedule Economic Price Adjustment | 3090-AK20
187 | General Services Administration Acquisition Regulation (GSAR); GSAR Case 2020-G511, Updated Guidance for Non-Federal Entities Access to Federal Supply Schedules | 3090-AK21
188 | General Service Acquisition Regulation (GSAR); GSAR Case 2020-G512, System for Award Management Representation for Leases | 3090-AK22
189 | General Services Acquisition Regulation (GSAR); GSAR Case 2021-G505, Amending Prescriptions for Including FAR Provisions and Clauses in Lease Procurements | 3090-AK36
190 | General Services Administration Acquisition Regulations (GSAR); GSAR 2021-G520, Economic Price Adjustment for Deregulated Electric Supplies | 3090-AK48
191 | General Services Administration Acquisition Regulation (GSAR); GSAR Case 2021-G530, Extension of Federal Minimum Wage to Lease Acquisitions | 3090-AK51
192 | General Services Acquisition Regulation (GSAR): GSAR Case 2022-G517 Single-use Plastic Packaging Reduction | 3090-AK60
193 | General Services Administration Acquisition Regulation (GSAR): GSAR Case 2023-G507, Additional Transactional Data Reporting Elements for Non-Federal Supply Schedule contracts | 3090-AK71
194 | Federal Management Regulation (FMR); FMR Case 2023-102-1, Sustainable Siting | 3090-AK69

General Services Administration—Final Rule Stage
Sequence No. | Title | Regulation Identifier No.
195 | General Services Administration Acquisition Regulation (GSAR); GSAR Case 2019-G503, Streamlining GSA Commercial Contract Clause Requirements | 3090-AK09
196 | General Service Acquisition Regulation (GSAR); GSAR Case 2022-G513, Updating Payments Clause | 3090-AK55
197 | General Service Acquisition Regulation (GSAR); GSAR Case 2022-G514, Standardizing Federal Supply Schedule Clause and Provision Prescriptions | 3090-AK58

General Services Administration—Long-Term Actions
Sequence No. | Title | Regulation Identifier No.
198 | General Services Administration Acquisition Regulation (GSAR); GSAR Case 2020-G534, Extension of Certain Telecommunication Prohibitions to Lease Acquisitions | 3090-AK29
199 | General Services Administration Acquisition Regulation (GSAR); GSAR Case 2021-G522, Contract Requirements for High-Security Leased Space | 3090-AK39
200 | General Services Administration Acquisition Regulation (GSAR); GSAR 2021-G527, Immediate and Highest-Level Owner for High-Security Leased Space | 3090-AK44

General Services Administration—Completed Actions
Sequence No. | Title | Regulation Identifier No.
201 | General Services Administration Acquisition Regulation (GSAR); GSAR Case 2020-G505, Clarify Commercial Products and Services Contract Terms and Conditions | 3090-AK18
202 | General Service Acquisition Regulation (GSAR); GSAR Case 2020-G513, Lease Payment Procedures | 3090-AK23

GENERAL SERVICES ADMINISTRATION (GSA)

Office of Acquisition Policy

Proposed Rule Stage

186. General Services Administration Acquisition Regulation (GSAR); GSAR Case 2020-G510, Federal Supply Schedule Economic Price Adjustment [3090-AK20]

Legal Authority: 40 U.S.C. 121(c)

Abstract: The General Services Administration (GSA) is proposing to amend the General Services Administration Acquisition Regulation (GSAR) to clarify, update, and incorporate Federal Supply Schedule (FSS) program policies and procedures regarding economic price adjustment, including updating related prescriptions and clauses. This rule will provide unique guidance for contracts based on commercial price lists or not, and contracts with data reporting requirements or not.

Timetable:

Action | Date | FR Cite
NPRM | 07/00/23 |
NPRM Comment Period End | 09/00/23 |

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK20

187. General Services Administration Acquisition Regulation (GSAR); GSAR Case 2020-G511, Updated Guidance for Non-Federal Entities Access to Federal Supply Schedules [3090-AK21]

Legal Authority: 40 U.S.C. 121(c); 40 U.S.C. 502

Abstract: The General Services Administration (GSA) is proposing to amend the General Services Administration Acquisition Regulation (GSAR) to streamline and clarify the requirements for use of Federal Supply Schedules by eligible non-Federal entities, such as state and local governments. The rule is intended to increase understanding of the existing guidance and expand access to GSA sources of supply by eligible non-Federal entities, as authorized by historic statutes including the Federal Supply Schedules Usage Act of 2010. This rule supports underserved communities, promoting equity in the Federal Government.

Timetable:

Action | Date | FR Cite
NPRM | 06/00/23 |
NPRM Comment Period End | 08/00/23 |

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK21

188. General Service Acquisition Regulation (GSAR); GSAR Case 2020-G512, System for Award Management Representation for Leases [3090-AK22]

Legal Authority: 40 U.S.C. 121(c)

Abstract: The General Services Administration (GSA) is proposing to amend the General Services Administration Acquisition Regulation (GSAR) to remove the requirement for lease offerors to have an active System for Award Management (SAM) registration when submitting offers and instead allow offers up until the time of award to obtain an active SAM registration. Entities seeking Federal leases differ from the typical entities seeking Federal contracts in that common practice is to form a new entity for every new lease offer. Requiring representations from these entities prior to offer submission restricts competition. In addition, the tools in SAM typically used in the Government's evaluation of offers do not add value when evaluating lease offers.

Timetable:

Action | Date | FR Cite
NPRM | 10/00/23 |
NPRM Comment Period End | 12/00/23 |

Regulatory Flexibility Analysis Required: Yes.

Agency Contact: Amy Lara, Procurement Analyst, GSA Acquisition Policy Division, General Services Administration, GSA Acquisition Policy Division, 1800 F Street NW, Washington, AZ 20405, Phone: 816 926-7172, Email: amy.lara@gsa.gov.

RIN: 3090-AK22

189. General Services Acquisition Regulation (GSAR); GSAR Case 2021-G505, Amending Prescriptions for Including FAR Provisions and Clauses in Lease Procurements [3090-AK36]

Legal Authority: 40 U.S.C. 121(c)

Abstract: The General Services Administration (GSA) is proposing to amend the General Services Administration Acquisition Regulation (GSAR) to revise the prescriptions for FAR provisions and clauses that apply to lease solicitations and contracts. Additionally, GSA is proposing to make conforming changes to some provision and clause titles and numbers listed to align with the FAR, along with other editorial changes.

Timetable:

Action | Date | FR Cite
NPRM | 07/00/23 |
NPRM Comment Period End | 09/00/23 |

Regulatory Flexibility Analysis Required: Yes.

Agency Contact: Amy Lara, Procurement Analyst, GSA Acquisition Policy Division, General Services Administration, GSA Acquisition Policy Division, 1800 F Street NW, Washington, AZ 20405, Phone: 816 926-7172, Email: amy.lara@gsa.gov.

RIN: 3090-AK36

190. General Services Administration Acquisition Regulations (GSAR); GSAR 2021-G520, Economic Price Adjustment for Deregulated Electric Supplies [3090-AK48]

Legal Authority: 40 U.S.C. 121(c)

Abstract: The General Services Administration (GSA) is proposing to amend the General Services Administration Acquisition Regulation (GSAR) to revise internal agency approval procedures to allow the use of an economic price adjustment clause for deregulated electric supplies under fixed-price contracts. This rule will better account for regional variability in prices, portions of which are controlled by the Federal Energy Regulatory Commission under section 205 and 206 of the Federal Power Act and other regulatory bodies.

Timetable:

Action | Date | FR Cite
NPRM | 07/00/23 |
NPRM Comment Period End | 09/00/23 |

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK48

191. General Services Administration Acquisition Regulation (GSAR); GSAR Case 2021-G530, Extension of Federal Minimum Wage to Lease Acquisitions [3090-AK51]

Legal Authority: 40 U.S.C. 121(c)

Abstract: The General Services Administration (GSA) is proposing to amend the General Services Administration Acquisition Regulation (GSAR) to extend the requirements of Executive Order 14026 (Increasing the Minimum Wage for Federal Contractors) and Department of Labor regulations (29 CFR part 23) to lease acquisitions where the Davis Bacon Act applies by requiring inclusion of the related Federal Acquisition Regulation (FAR) clause. Generally, the FAR does not apply to leasehold acquisitions of real property. However, several FAR clauses have been adopted based on requirements through GSAR part 570. The Federal minimum wage requirements apply to Government lease acquisitions where the Davis Bacon Act applies and extension of the FAR requirements will ensure compliance. The Executive order seeks to increase efficiency and cost savings in the work performed by parties who contract with the Federal Government by increasing to $15.00 the hourly minimum wage paid to those contractors. This rule promotes economic resilience, and improves the buying power of U.S. citizens.

Timetable:

Action | Date | FR Cite
NPRM | 08/00/23 |
NPRM Comment Period End | 10/00/23 |

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AK51

192. General Services Acquisition Regulation (GSAR): GSAR Case 2022-G517 Single-Use Plastic Packaging Reduction [3090-AK60]

Legal Authority: 40 U.S.C. 121(c)

Abstract: The General Services Administration (GSA) is exploring regulations that will reduce single-use plastic consumption by the agency. Single-use plastic poses an environmental risk that is documented as having the potential to impact biodiversity. To learn more, GSA published an Advanced Notice of Proposed Rulemaking (ANPRM) to ask industry about what a change to the single-use plastics industry would entail. The questions focus on packaging materials with the overall intent of addressing not only the items that the Government intentionally consumes, but those products that the Government unintentionally consumes (such as packaging) that then has to be disposed of once the item is delivered.

Timetable:

Action | Date | FR Cite
ANPRM | 07/07/22 | 87 FR 40476
ANPRM Comment Period End | 09/06/22 |
Comment Period Extended | 09/08/22 | 87 FR 54937
NPRM | 07/00/23 |
NPRM Comment Period End | 09/00/23 |

Regulatory Flexibility Analysis Required: Yes.

Agency Contact: Adina Torberntsson, Procurement Analyst, GSA Acquisition Policy Division, General Services Administration, 1800 F Street NW, Washington, DC 20405, Phone: 303 236-2677, Email: adina.torberntsson@gsa.gov.

RIN: 3090-AK60

193. • General Services Administration Acquisition Regulation (GSAR): GSAR Case 2023-G507, Additional Transactional Data Reporting Elements for Non-Federal Supply Schedule Contracts. [3090-AK71]

Legal Authority: 40 U.S.C. 121(c)

Abstract: The General Services Administration (GSA) is proposing to amend the General Services Administration Acquisition Regulation (GSAR) to update and bring certain reporting elements into conformance with current business practices. The reporting elements would apply to solicitations and contracts for GSA-awarded indefinite-delivery indefinite-quantity (IDIQ), Governmentwide acquisition contracts (GWACs), and multi-agency contracts (MACs).

Timetable:

Action | Date | FR Cite
NPRM | 12/00/23 |
NPRM Comment Period End | 02/00/24 |

Regulatory Flexibility Analysis Required: Yes.

Agency Contact: Thomas O'Linn, Procurement Analyst, GSA Acquisition Policy Division, General Services Administration, 1800 F Street NW, Washington, DC 20405, Phone: 202 445-0390, Email: thomas.olinn@gsa.gov.

RIN: 3090-AK71

Office of Governmentwide Policy

194. Federal Management Regulation (FMR); FMR Case 2023-102-1, Sustainable Siting [3090-AK69]

Legal Authority: 40 U.S.C.121(c); E.O. 12072; E.O. 13006; E.O. 14057; E.O.14091; E.O.14096

Abstract: The General Services Administration is amending FMR part 102-83 to promote economy and efficiency in the planning, acquisition, utilization, and management of Federal facilities. The rule will implement Executive Order 14057 (Catalyzing Clean Energy Industry and Jobs Through Federal Sustainability) Executive Order 14091 (Further Advancing Racial Equity and Support for Underserved Communities Through the Federal Government), and Executive Order 14096 (Revitalizing Our Nation's Commitment to Environmental Justice for All). This rule will help ensure that all new Federally owned and leased location decisions reduce emissions across Federal workplaces by ensuring that all new construction, modernization projects, and leases implement a number of equitable, energy efficient, sustainable, and climate-resilient building practices for federal facilities.

Timetable:

Action | Date | FR Cite
NPRM | 07/00/23 |
NPRM Comment Period End | 09/00/23 |

Regulatory Flexibility Analysis Required: Yes.

Agency Contact: Chris Coneeney, Director, Real Property Policy Division, General Services Administration, 1800 F Street NW, Washington, DC 20405, Phone: 202 208-2956, Email: chris.coneeney@gsa.gov.

RIN: 3090-AK69

GENERAL SERVICES ADMINISTRATION (GSA)

Final Rule Stage

Office of Acquisition Policy

195. General Services Administration Acquisition Regulation (GSAR); GSAR Case 2019-G503, Streamlining GSA Commercial Contract Clause Requirements [3090-AK09]

Legal Authority: 40 U.S.C. 121(c)

Abstract: The General Services Administration (GSA) is proposing to amend the General Services Administration Acquisition Regulation (GSAR) to streamline requirements for GSA commercial contracts. This rule will update GSAR Clauses 552.212-71 and 552.212-72 to remove any requirements that are not necessary by law or Executive Order.

Timetable:

Action | Date | FR Cite
NPRM | 12/20/22 | 87 FR 77783
NPRM Comment Period End | 02/21/23 |
Final Rule | 06/00/23 |

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AK09

196. General Service Acquisition Regulation (GSAR); GSAR Case 2022-G513, Updating Payments Clause [3090-AK55]

Legal Authority: 40 U.S.C. 121(c)

Abstract: The General Services Administration (GSA) is amending the General Services Administration Acquisition Regulation (GSAR) to remove the agency supplemental clause regarding payments for non-commercial fixed price contracts for supplies or services. This payments clause provides that, in certain transactions, the Government must pay a contractor without submission of an invoice or voucher. GSA has determined that this is no longer in the best interest of the Government. This final rule will additionally amend any corresponding references to the clause.

Timetable:

Action | Date | FR Cite
NPRM | 02/28/23 | 88 FR 12641
NPRM Comment Period End | 05/01/23 |
Final Rule | 09/00/23 |

Regulatory Flexibility Analysis Required: Yes.

Agency Contact: Byron Boyer, Procurement Analyst, GSA Acquisition Policy Division, General Services Administration, 1800 F Street NW, Washington, DC 20405, Phone: 817 850-5580, Email: byron.boyer@gsa.gov.

RIN: 3090-AK55

197. General Service Acquisition Regulation (GSAR); GSAR Case 2022-G514, Standardizing Federal Supply Schedule Clause and Provision Prescriptions [3090-AK58]

Legal Authority: 40 U.S.C. 121(c)

Abstract: The General Services Administration (GSA) is proposing to amend the General Services Administration Acquisition Regulation (GSAR) to standardize the identification of Federal Supply Schedule (FSS) clauses, provisions, and references. GSA will clarify the distinction between Federal Supply Schedule and the Multiple Award Schedule (MAS) Program. GSA will also clarify the applicability of FSS clauses and provisions for FSS contracts managed by GSA and the Department of Veterans Affairs.

Timetable:

Action | Date | FR Cite
NPRM | 03/15/23 | 88 FR 15941
NPRM Comment Period End | 05/15/23 |
Final Rule | 09/00/23 |

Regulatory Flexibility Analysis Required: Yes.

Agency Contact: Adina Torberntsson, Procurement Analyst, GSA Acquisition Policy Division, General Services Administration, 1800 F Street NW, Washington, DC 20405, Phone: 303 236-2677, Email: adina.torberntsson@gsa.gov.

RIN: 3090-AK58

GENERAL SERVICES ADMINISTRATION (GSA)

Office of Acquisition Policy

Long-Term Actions

198. General Services Administration Acquisition Regulation (GSAR); GSAR Case 2020-G534, Extension of Certain Telecommunication Prohibitions to Lease Acquisition [3090-AK29]

Legal Authority: 40 U.S.C. 121(c); 5 U.S.C. 801; Pub. L. 115-232 sec. 889

Abstract: The General Services Administration (GSA) is proposing to amend the General Services Administration Acquisition Regulation (GSAR) to prohibit procurement from certain covered entities using covered equipment and services in lease acquisitions pursuant to section 889 of the National Defense Authorization Act (NDAA) for Fiscal Year (FY) 2019. The rule will implement the section 889 requirements in lease acquisitions by requiring inclusion of the related Federal Acquisition Regulation (FAR) provisions and clause. This rule supports the national security priority.

Timetable:

Action | Date | FR Cite
NPRM | 06/00/24 |
NPRM Comment Period End | 08/00/24 |

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK29

199. General Services Administration Acquisition Regulation (GSAR); GSAR Case 2021-G522, Contract Requirements for High-Security Leased Space [3090-AK39]

Legal Authority: 40 U.S.C. 121(c); Pub. L. 116-276

Abstract: The General Services Administration (GSA) is amending the General Services Administration Acquisition Regulation (GSAR) to incorporate contractor disclosure requirements and access limitations for high-security leased space pursuant to the Secure Federal Leases Act. Covered entities are required to identify whether the beneficial owner of a high-security leased space, including an entity involved in the financing thereof, is a foreign person or entity when first submitting a proposal and annually thereafter. This rule supports the national security priority.

Timetable:

Action | Date | FR Cite
NPRM | 12/27/21 | 86 FR 73219
NPRM Comment Period End | 02/25/22 |
Final Rule | 06/00/24 |

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK39

200. General Services Administration Acquisition Regulation (GSAR); GSAR 2021-G527, Immediate and Highest-Level Owner for High-Security Leased Space [3090-AK44]

Legal Authority: 40 U.S.C. 121(c)

Abstract: GSA is amending the General Services Administration Acquisition Regulation (GSAR) to implement certain requirements outlined in the Secure Federal LEASEs Act (Pub. L. 116-276). The Act addresses the risks of foreign ownership of Government-leased real estate and requires the disclosure of ownership information for high-security space leased to accommodate a Federal agency. This rule supports the national security priority.

Timetable:

Action | Date | FR Cite
Interim Final Rule Effective | 06/30/21 |
Interim Final Rule | 07/01/21 | 86 FR 34966
Interim Final Rule Comment Period End | 08/30/21 |
Final Rule | 06/00/24 |

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK44

GENERAL SERVICES ADMINISTRATION (GSA)

Completed Actions

201. General Services Administration Acquisition Regulation (GSAR); GSAR Case 2020-G505, Clarify Commercial Products and Services Contract Terms and Conditions [3090-AK18]

Legal Authority: 40 U.S.C. 121(c)

Abstract: The General Services Administration (GSA) is proposing to amend the General Services Acquisition Regulation (GSAR) to clarify commercial products and services contract terms and conditions. This rule will update GSAR Clause 552.212-4 to clarify the prescription and language applicable for the different clause alternates.

Completed:

Reason | Date | FR Cite
Final Rule | 12/13/22 | 87 FR 76111
Final Rule Effective | 01/12/23 |

Regulatory Flexibility Analysis Required: Yes.

Agency Contact: Johnnie McDowell, Phone: 202 718-6112, Email: johnnie.mcdowell@gsa.gov.

RIN: 3090-AK18

202. General Service Acquisition Regulation (GSAR); GSAR Case 2020-G513, Lease Payment Procedures [3090-AK23]

Legal Authority: 40 U.S.C. 121(c)

Abstract: The General Services Administration (GSA) is withdrawing this rule. After working to develop GSAR Case 2020-G513, GSA's Public Buildings Service (PBS) Office of Leasing (OL) has prioritized other policy requirements.

Completed:

Reason | Date | FR Cite
Withdrawn | 03/14/23 |

Regulatory Flexibility Analysis Required: Yes.

Agency Contact: Marten Wallace, Phone: 202 969-7736, Email: marten.wallace@gsa.gov.

RIN: 3090-AK23

[FR Doc. 2023-14571 Filed 7-26-23; 8:45 am]

BILLING CODE 6820-34-P